DEPARTMENT OF VETERANS AFFAIRS

[OMB Control No. 2900-0325]

Agency Information Collection Activity Under OMB Review: Certificate of Delivery of Advance Payment and Enrollment

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0325.”

FOR FURTHER INFORMATION CONTACT: Maribel Aponte, Office of Enterprise and Integration, Data Governance Analytics (008), 810 Vermont Ave. NW, Washington, DC 20420, (202) 266-4688 or email Maribel.aponte@va.gov. Please refer to “OMB Control No. 2900-0325” in any correspondence.

SUPPLEMENTARY INFORMATION:

Authority: 38 U.S.C. 3034, 3241, 3531, 3680(d), 3684,10 U.S.C.16136(b), 38 CFR 21.4138a, 21.4203(a), 21.5135, 21.5200(d), 21.5292(e)(2), 21.7151(b), and 21.7640(d).

Title: Certificate of Delivery of Advance Payment and Enrollment, VA Form 22-1999v.

OMB Control Number: 2900-0325.

Type of Review: Revision of a currently approved collection.

Abstract: The VA uses information from the current collection at the beginning of the school term to ensure that advance payments have been delivered, and to determine whether the student has increased, reduced, or terminated training. School Certifying Officials (SCOs) completes this form and returns it to VA when delivery of the advance payment check is made to students upon registration for their period of enrollment. If this student fails to register within 30 days after the commencement date of the enrollment period, the advance payment check must be returned to the Department of the Treasury. Advance payments are not available under the Post-9/11 GI Bill (Chapter 33) benefit program.

An agency may not conduct or sponsor, and a person is not required to respond to a collection of information unless it displays a currently valid OMB control number. The Federal Register Notice with a 60-day comment period soliciting comments on this collection of information was published at 88 FR 58636 on Monday, August 28, 2023, page(s) 58636-58637.

Affected Public: State, local and Tribal governments.

Estimated Annual Burden: 23 hours.

Estimated Average Burden Time per Respondent: 5 minutes.

Frequency of Response: On occasion.

Estimated Number of Respondents: 63.

By direction of the Secretary.
Maribel Aponte,
VA PRA Clearance Officer, Office of Enterprise and Integration, Data Governance Analytics, Department of Veterans Affairs.

[FR Doc. 2023-24056 Filed 10-31-23; 8:45 am]

BILLING CODE 8320-01-P